DEPARTMENT OF AGRICULTURE

Forest Service

Interim Direction for Processing Interstate Natural Gas Pipeline Proposals on National Forest System Lands

AGENCY: Forest Service, USDA.

ACTION: Notice of issuance of agency directive.

SUMMARY: The Forest Service is issuing an interim directive to guide its employees in processing proposals for interstate natural gas pipeline projects. This interim directive is designed to supplement existing direction in the Forest Service Manual chapter 2720, consistent with a May 2002 interagency agreement between the Department of Agriculture and the Federal Energy Regulatory Commission. The agreement establishes procedures for responding to and processing applications for interstate natural gas pipeline projects when the Federal Energy Regulatory Commission will be the lead agency in conducting the required environmental and historic preservation reviews.

DATES: This interim directive is effective October 24, 2003.

ADDRESSES: This interim directive (ID 2720-2003-2) is available electronically from the Forest Service via the World Wide Web/Internet at http://www.fs.fed.us/im/directives. Single paper copies of the ID are also available by contacting Melissa Hearst, Lands Staff (Mail Stop 1124), Forest Service, 1400 Independence Avenue, SW., Washington, DC 20250-1124 (telephone 202-205-1196).

FOR FURTHER INFORMATION CONTACT: Melissa Hearst, Lands Staff (202-205-1196).

SUPPLEMENTARY INFORMATION: The Forest Service is issuing an interim directive (ID) to Forest Service Manual (FSM) chapter 2720 to guide its employees in the streamlining of proposal and application procedures for interstate natural gas pipelines certified by the Federal Energy Regulatory Commission (FERC) and adopted in a May 2002 agreement between the FERC, the Department of Agriculture, and other Federal agencies.

The May 2002 agreement entitled “Interagency Agreement on Early Coordination of Required Environmental and Historic Preservation Reviews Conducted in Conjunction with the Issuance of Authorizations to Construct and Operate Interstate Natural Gas Pipelines Certificated by the Federal Energy Regulatory Commission” eliminates overlapping and duplicative environmental processes required by the numerous Federal agencies having jurisdiction in the permitting of interstate natural gas pipeline projects. Minimizing the duplication and overlap of procedures shortens the cumulative processing time for evaluating applications and making decisions on these projects. The ID to FSM 2720 provides Forest Service field officers with specific procedures to ensure that the agency carries out the streamlining processes in the agreement and directs that field officers fully engage as a cooperating agency in the FERC's processing of these types of applications.

The interim directive to FSM 2720 is issued as ID number 2720-2003-2.

Dated: October 16, 2003.
Sally Collins,
Associate Chief.

[FR Doc. 03-26814 Filed 10-23-03; 8:45 am]

BILLING CODE 3410-11-P